DEPARTMENT OF THE INTERIOR

Bureau of Land Management

[212.LLAK941200.L1440000.ET0000; A-023002]

Notice of Application for Extension of Public Land Order No. 6244 and Opportunity for Public Meeting; Alaska

AGENCY: Bureau of Land Management, Interior.

ACTION: Notice.

SUMMARY: The U.S. Air Force 673rd Civil Engineer Squadron Real Property Officer filed an application with the Bureau of Land Management (BLM) requesting the Secretary of the Interior extend the duration of the withdrawal created by Public Land Order (PLO) No. 6244 for an additional 20-year term. The withdrawal created by PLO No. 6244, as extended by PLO No. 7514, expires on May 12, 2022. PLO No. 6244, as extended, withdrew public land from surface land and mining laws for military purposes at Fort Richardson, Alaska. This requested extension notes the change of PLO No. 6244 by the 2005 Base Closure and Realignment Report, creating Joint Base Elmendorf-Richardson with the Department of the Air Force as the supporting agency. This Notice invites the public to comment on the Air Force application or request a public meeting for the requested 20-year withdrawal extension.

DATES: Comments and requests for a public meeting must be received by September 14, 2021.

ADDRESSES: Comments and meeting requests should be sent to the Alaska State Director, BLM Alaska State Office, 222 West Seventh Avenue, No. 13, Anchorage, Alaska 99513-7504 or by email at blm_ak_state_director@blm.gov.

FOR FURTHER INFORMATION CONTACT: Chelsea Kreiner, BLM Alaska State Office, 907-271-4205, email ckreiner@blm.gov.

Persons who use a Telecommunications Device for the Deaf (TDD) may call the Federal Relay Service (FRS) at 1-800-877-8339 to contact the above individual. The FRS is available 24 hours a day, 7 days a week. You will receive a reply during normal business hours.

SUPPLEMENTARY INFORMATION: On August 8, 2019, the 673rd Civil Engineer Squadron Real Property Officer requested that PLO No. 6244 (47 FR 20590 (1982)), as extended by PLO No. 7514 (67 FR 10433, (2002)), be extended for an additional 20-year term.

PLO No. 6244 is incorporated by reference. A complete description, along with all other records pertaining to the extension, can be examined in the BLM Alaska State Office at the address shown above.

Notice is hereby given that an opportunity for a public meeting is afforded in connection with the proposed withdrawal extension. All interested parties who desire a public meeting for the purpose of being heard on the proposed withdrawal extension application must submit a written request to the BLM Alaska State Director. Upon determination by the authorized officer that a public meeting will be held, the BLM will publish a notice of the time and place in the Federal Register at least 30 days before the scheduled date of the meeting.

The withdrawal extension application will be processed in accordance with the regulations set forth in 43 CFR 2310.4 and subject to Section 810 of the Alaska National Interest Lands Conservation Act, (16 U.S.C. 3120).

For a period until September 14, 2021, all persons who wish to submit comments, suggestions, or objections in connection with the proposed withdrawal extension may present their views in writing to the BLM Alaska State Director at the address indicated above. Before including your address, phone number, email address, or other personal identifying information in your comment, you should be aware that your entire comment—including your personal identifying information—may be made publicly available at any time. While you can ask us in your comment to withhold your personal identifying information from public review, we cannot guarantee that we will be able to do so.

Ted A. Murphy,
Alaska State Director, Acting.

[FR Doc. 2021-12613 Filed 6-15-21; 8:45 am]

BILLING CODE 4310-JA-P